DEPARTMENT OF THE TREASURY

Office of Foreign Assets Control

Notice of OFAC Sanctions Actions

AGENCY: Office of Foreign Assets Control, Treasury.

ACTION: Notice.

SUMMARY: The U.S. Department of the Treasury's Office of Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing an update to the identifying information of one person currently included on the SDN List.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On April 12, 2023, OFAC determined that the property and interests in property subject to U.S. jurisdiction of the following persons are blocked under the relevant sanctions authority listed below.

Individuals

1. KOSOV, Nikolay Nikolayevich (a.k.a. KOSOV, Nikolai), Budapest, Hungary; DOB 30 Jun 1955; POB Moscow, Russia; nationality Russia; Gender Male (individual) [RUSSIA-EO14024].

Designated pursuant to sections 1(a)(i) and 1(a)(vii) of Executive Order 14024 of April 15, 2021, “Blocking Property With Respect To Specified Harmful Foreign Activities of the Government of the Russian Federation,” 86 FR 20249, 3 CFR, 2021 Comp., p. 542 (Apr. 15, 2021) (E.O. 14024) for operating or having operated in the financial services sector of the Russian Federation economy and for being owned or controlled by, or having acted or purported to act for or on behalf of, directly or indirectly, the Government of the Russian Federation.

2. LASZLOCZKI, Imre, Budapest, Hungary; DOB 26 Sep 1961; POB Paks, Hungary; nationality Hungary; Gender Male (individual) [RUSSIA-EO14024].

Designated pursuant to section 1(a)(i) of E.O. 14024 for operating or having operated in the financial services sector of the Russian Federation economy.

3. POTAPOV, Georgy Nugzarovich (a.k.a. POTAPOV, Georgiy), Budapest, Hungary; DOB 26 May 1975; POB Moscow, Russia; nationality Russia; Gender Male (individual) [RUSSIA-EO14024].

Designated pursuant to section 1(a)(i) of E.O. 14024 for operating or having operated in the financial services sector of the Russian Federation economy.

4. ATTIKOURIS, Kyriakos, Cyprus; DOB 09 May 1980; POB Limassol, Cyprus; nationality Cyprus; Gender Male; National ID No. 813057 (Cyprus) (individual) [RUSSIA-EO14024] (Linked To: WINDFEL PROPERTIES LIMITED; Linked To: SAVOLER DEVELOPMENT LIMITED; Linked To: MIRAMONTE INVESTMENTS LIMITED).

Designated pursuant to section 1(a)(iii)(C) of E.O. 14024 for being or having been a leader, official, senior executive officer, or member of the board of directors of Windfel Properties Limited, Savoler Development Ltd, and Miramonte Investments Ltd, entities whose property and interests in property are blocked pursuant to E.O. 14024.

5. GEORGIOU, Marilena, Cyprus; DOB 31 Oct 1987; POB Cyprus; nationality Cyprus; Gender Female (individual) [RUSSIA-EO14024] (Linked To: ALMENOR HOLDINGS LIMITED).

Designated pursuant to section 1(a)(iii)(C) of E.O. 14024 for being or having been a leader, official, senior executive officer, or member of the board of directors of Almenor Holdings Limited, an entity whose property and interests in property are blocked pursuant to E.O. 14024.

6. GIANNAKOU, Kostas (a.k.a. YIANNAKOU, Costas), Cyprus; DOB 24 Jul 1970; Gender Male (individual) [RUSSIA-EO14024] (Linked To: ALMENOR HOLDINGS LIMITED).

Designated pursuant to section 1(a)(iii)(C) of E.O. 14024 for being or having been a leader, official, senior executive officer, or member of the board of directors of Almenor Holdings Limited, an entity whose property and interests in property are blocked pursuant to E.O. 14024.

7. KOCHAROVA, Gulnoz Zunnurovna (a.k.a. ISMAILOVA, Gulnoz Zunnurovna), Russia; Cyprus; Switzerland; DOB 04 Oct 1982; POB Tashkent, Uzbekistan; nationality Russia; alt. nationality Cyprus; citizen Uzbekistan; Gender Female; Passport K00224544 (Cyprus) issued 28 May 2015 expires 28 May 2025 (individual) [RUSSIA-EO14024] (Linked To: ALMENOR HOLDINGS LIMITED).

Designated pursuant to section 1(a)(iii)(C) of E.O. 14024 for being or having been a leader, official, senior executive officer, or member of the board of directors of Almenor Holdings Limited, an entity whose property and interests in property are blocked pursuant to E.O. 14024.

8. VAKANAS, Antonis Kyriakou, Cyprus; DOB 20 Jun 1977; citizen United Kingdom; Gender Male (individual) [RUSSIA-EO14024] (Linked To: WINDFEL PROPERTIES LIMITED; Linked To: SAVOLER DEVELOPMENT LIMITED; Linked To: MIRAMONTE INVESTMENTS LIMITED).

Designated pursuant to section 1(a)(iii)(C) of E.O. 14024 for being or having been a leader, official, senior executive officer, or member of the board of directors of Windfel Properties Limited, Savoler Development Ltd, and Miramonte Investments Ltd, entities whose property and interests in property are blocked pursuant to E.O. 14024.

9. VINER, Natan Adadievich (a.k.a. VINER, Anton Adadyevich; a.k.a. VINER, Natan Adadievic; a.k.a. VINER, Nathan Anton), Russia; Kapu iela, Jurmala, Latvia; DOB Oct 1971; alt. DOB 1973; POB Tashkent, Uzbekistan; nationality Germany; citizen Russia; Gender Male; Tax ID No. 772986203232 (Russia) (individual) [RUSSIA-EO14024].

Designated pursuant to section 1(a)(i) of E.O. 14024 for operating or having operated in the management consulting sector of the Russian Federation economy.

BILLING CODE 4810-AL-P

BILLING CODE 4810-AL-C

15. ISMAILOVA, Gulbakhor Burkhanovna (a.k.a. ISMAILOVA, Gulbahor Burkhanovna), Ustabayava 79, Apt 81-831, Tashkent 100187, Uzbekistan; DOB 22 Dec 1959; POB Tashkent, Uzbekistan; nationality Uzbekistan; alt. nationality Russia; alt. nationality Cyprus; Gender Female (individual) [RUSSIA-EO14024] (Linked To: THE SISTER TRUST).

Designated pursuant to section 1(a)(vi)(B) of E.O. 14024 for having materially assisted, sponsored, or provided financial, material, or technological support for, or goods or services to or in support of, The Sister Trust, a person whose property and interests in property are blocked pursuant to E.O. 14024.

16. SERGHIDES, Demetrios (a.k.a. SERGHIDES, Demetris; a.k.a. SERGIDIS, Dimitrios), 29 Kosta Pitsillide, Limassol, Cyprus; 35 Avenue de Papalins, Les Sporades, Flat 914, Monaco 98000, Monaco; 6ET N.600 8, Villa Rose, 2 Lacets Saint Leon, Monaco 98000, Monaco; Italy; DOB 18 Dec 1968; POB Limassol, Cyprus; nationality Cyprus; Gender Male; Passport K00162863 (Cyprus) issued 18 Feb 2014 expires 18 Feb 2024; National ID No. 670766 (Cyprus); Tax ID No. SRGDTR68T18Z211K (Italy) (individual) [RUSSIA-EO14024] (Linked To: USMANOV, Alisher Burhanovich).

Designated pursuant to section 1(a)(vii) of E.O. 14024 for being owned or controlled by, or having acted or purported to act for or on behalf of, directly or indirectly, Alisher Burhanovich Usmanov, a person whose property and interests in property are blocked pursuant to E.O. 14024.

17. EFENDIEV, Nazim Tofik Ogly, 17-3 Protopopovsky Pereulok, Apt. 66, Moscow 129090, Russia; DOB 16 Sep 1963; POB Baku, Azerbaijan; nationality Russia; Gender Male; Passport 530325856 (Russia) issued 07 Feb 2013 expires 22 Oct 2022; alt. Passport 753519704 (Russia) issued 30 Jul 2016 expires 30 Jul 2026; alt. Passport 764735608 (Russia) issued 02 Jun 2021 expires 02 Jun 2031; National ID No. 4508499921 (Russia) (individual) [RUSSIA-EO14024].

Designated pursuant to section 1(a)(i) of Executive Order 14024 for operating or having operated in the metals and mining sector of the Russian Federation economy.

18. KAZIKAEV, Valery Dzhekovich (a.k.a. KAZIKAEV, Valeri; a.k.a. KAZIKAEV, Valery Dzekovic; a.k.a. KAZIKAYEV, Valeriy Dzhekovich), Italy; Znievska 3060/8, Bratislava-Petrzalka 85106, Slovakia; Russia; DOB 13 Nov 1954; POB Moscow, Russia; nationality Russia; Gender Male; Passport 531143127 (Russia) issued 30 Jun 2016 expires 30 Jun 2026; Tax ID No. KZKVRY54S13Z154C (Italy) (individual) [RUSSIA-EO14024].

Designated pursuant to section 1(a)(i) of Executive Order 14024 for operating or having operated in the metals and mining sector of the Russian Federation economy.

19. KOCHAROV, Vakhtang Ernstovich, Russia; United Arab Emirates; DOB 03 Mar 1982; POB Baku, Azerbaijan; nationality Russia; alt. nationality Cyprus; Gender Male; Passport K00224516 (Cyprus) expires 28 May 2025 (individual) [RUSSIA-EO14024].

Designated pursuant to section 1(a)(i) of Executive Order 14024 for operating or having operated in the metals and mining sector of the Russian Federation economy.

20. NARZIEVA, Nasiba Erkinovna, Uzbekistan; DOB 30 Jun 1984; POB Tashkent, Uzbekistan; nationality Uzbekistan; Gender Female; Passport AA0124604 (Uzbekistan) issued 21 Jun 2016 expires 20 Jun 2022; alt. Passport FA0002578 (Uzbekistan) expires 14 Jan 2029; alt. Passport CA2609496 (Uzbekistan) issued 01 Jun 2009 expires 29 Jun 2029 (individual) [RUSSIA-EO14024] (Linked To: NASIRKHODJAEV, Shokhrukh Olimdjonovich).

Designated pursuant to section 1(a)(v) of E.O. 14024 for being a spouse or adult child of Shokhrukh Olimdjonovich Nasirkhodjaev, whose property and interests in property are blocked pursuant to section 1(a)(ii) or (iii) of E.O. 14024.

21. NARZIEVA, Saodat Burxanovna, Uzbekistan; DOB 15 May 1965; POB Uzbekistan; nationality Uzbekistan; Gender Female; Passport AA1333009 (Uzbekistan) issued 08 May 2013 expires 07 May 2023 (individual) [RUSSIA-EO14024] (Linked To: NASIRKHODJAEV, Shokhrukh Olimdjonovich).

Designated pursuant to section 1(a)(vi)(B) of E.O. 14024 for having materially assisted, sponsored, or provided financial, material, or technological support for, or goods or services to or in support of, Shokhrukh Olimdjonovich Nasirkhodjaev, a person whose property and interests in property are blocked pursuant to E.O. 14024.

22. NASIRKHODJAEV, Shokhrukh Olimdjonovich (a.k.a. NASIRKHODJAEV, Shokrukh), United Arab Emirates; Uzbekistan; DOB 07 Sep 1980; POB Tashkent, Uzbekistan; nationality Uzbekistan; Gender Male; Passport AA0615681 (Uzbekistan) issued 04 Jan 2013 expires 04 Jan 2023; alt. Passport CA2645862 (Uzbekistan) issued 02 Jun 2009 expires 06 Sep 2025; alt. Passport FA0163946 (Uzbekistan) expires 24 Mar 2029 (individual) [RUSSIA-EO14024].

Designated pursuant to section 1(a)(iii)(C) of E.O. 14024 for being or having been a leader, official, senior executive officer, or member of the board of directors of Hamriyah Steel Free Zone Company, an entity whose property and interests in property are blocked pursuant to E.O. 14024.

23. GIGER, Markus Jakob, Bildgass 30, Schaan 9494, Liechtenstein; Switzerland; DOB 17 Aug 1955; POB St. Gallen, Switzerland; nationality Switzerland; alt. nationality United Kingdom; Gender Male; Passport X0192937 (Switzerland) expires 10 Apr 2026; National ID No. 040002130001 (United Kingdom) (individual) [RUSSIA-EO14024] (Linked To: SEQUOIA TREUHAND TRUST REG).

Designated pursuant to section 1(a)(iii)(C) of E.O. 14024 for being or having been a leader, official, senior executive officer, or member of the board of directors of Sequoia Treuhand Trust Reg, an entity whose property and interests in property are blocked pursuant to E.O. 14024.

24. OEHRI, Roland (a.k.a. OHRI, Roland), Liechtenstein; Austria; DOB 19 Mar 1968; POB Liechtenstein; nationality Liechtenstein; alt. nationality Switzerland; Gender Male; Passport R 41277 (Liechtenstein) expires 23 Mar 2030 (individual) [RUSSIA-EO14024] (Linked To: SEQUOIA TREUHAND TRUST REG).

Designated pursuant to section 1(a)(iii)(C) of E.O. 14024 for being or having been a leader, official, senior executive officer, or member of the board of directors of Sequoia Treuhand Trust Reg, an entity whose property and interests in property are blocked pursuant to E.O. 14024.

25. OSTROWSKY, Alexander (a.k.a. OSTROUSKY, Alexander), Zurich, Switzerland; DOB 21 Aug 1963; nationality Austria; alt. nationality Switzerland; citizen Austria; Gender Male; Passport X3278664 (Switzerland) (individual) [RUSSIA-EO14024] (Linked To: SEQUOIA TREUHAND TRUST REG).

Designated pursuant to section 1(a)(vi)(B) of E.O. 14024 for having materially assisted, sponsored, or provided financial, material, or technological support for, or goods or services to or in support of, Sequoia Treuhand Trust, a person whose property and interests in property are blocked pursuant to E.O. 14024.

Entities

1. AZU INTERNATIONAL BILGI TEKNOLOJILERI VE DIS TICARET LIMITED SIRKETI (Latin: AZU INTERNATIONAL BILGI TEKNOLOJILERI VE DIŞ TICARET LIMITED ŞIRKET) (a.k.a. AZU INTERNATIONAL BILGI TEKN VE DIS TI LTD STI; a.k.a. AZU INTERNATIONAL INFORMATION TECHNOLOGIES AND FOREIGN TRADE LIMITED COMPANY), Huseyinaga neighborhood Istiklal Str., Grandpera Block No: 56-58 Inner door No: 5, Beyoglu, Istanbul, Turkey; Organization Established Date 30 Mar 2022; Organization Type: Wholesale of electronic and telecommunications equipment and parts; Registration Number 371692-5 (Turkey); alt. Registration Number 0127108975400001 (Turkey) [RUSSIA-EO14024].

Designated pursuant to section 1(a)(i) of Executive Order 14024 for operating or having operated in the technology and electronics sectors of the Russian Federation economy.

2. MIRAMONTE INVESTMENTS LIMITED, Louloupis Court, Floor No: 7, Christodoylou Chatzipaylou 205, Limassol 3036, Cyprus; Organization Established Date 06 Apr 2021; Registration Number C420204 (Cyprus) [RUSSIA-EO14024] (Linked To: USMANOV, Alisher Burhanovich).

Designated pursuant to section 1(a)(vii) of E.O. 14024 for being owned or controlled by, or having acted or purported to act for or on behalf of, directly or indirectly, Alisher Burhanovich Usmanov, a person whose property and interests in property are blocked pursuant to E.O. 14024.

3. SAVOLER DEVELOPMENT LIMITED, Louloupis Court, Floor No: 7, Christodoylou Chatzipaylou 205, Limassol 3036, Cyprus; Organization Established Date 10 Oct 2016; Registration Number C360999 (Cyprus) [RUSSIA-EO14024] (Linked To: USMANOV, Alisher Burhanovich).

Designated pursuant to section 1(a)(vii) of E.O. 14024 for being owned or controlled by, or having acted or purported to act for or on behalf of, directly or indirectly, Alisher Burhanovich Usmanov, a person whose property and interests in property are blocked pursuant to E.O. 14024.

4. SOMMEN SECRETARIAL SERVICES LIMITED, Louloupis Court, Floor No: 6, Christodoylou Chatzipaylou 205, Limassol 3036, Cyprus; Organization Established Date 24 Sep 2013; Registration Number C325384 (Cyprus) [RUSSIA-EO14024] (Linked To: WINDFEL PROPERTIES LIMITED; Linked To: SAVOLER DEVELOPMENT LIMITED; Linked To: MIRAMONTE INVESTMENTS LIMITED).

Designated pursuant to section 1(a)(vi)(B) of E.O. 14024 for having materially assisted, sponsored, or provided financial, material, or technological support for, or goods or services to or in support of, Windfel Properties Limited, Savoler Development Ltd, and Miramonte Investments Ltd, persons whose property and interests in property are blocked pursuant to E.O. 14024.

5. WINDFEL PROPERTIES LIMITED (a.k.a. PREDSTAVITELSTVO WINDFEL PROPERTIES LIMITED), Louloupis Court, Floor No: 7, Christodoylou Chatzipaylou 205, Limassol 3036, Cyprus; Mustakillik 59A, Tashkent, Uzbekistan; Organization Established Date 09 Sep 2016; Legal Entity Number 2180068XRFK54K3Z159; Registration Number C359911 (Cyprus); alt. Registration Number 207288668 (Uzbekistan) [RUSSIA-EO14024] (Linked To: USMANOV, Alisher Burhanovich).

Designated pursuant to section 1(a)(vii) of E.O. 14024 for being owned or controlled by, or having acted or purported to act for or on behalf of, directly or indirectly, Alisher Burhanovich Usmanov, a person whose property and interests in property are blocked pursuant to E.O. 14024.

6. GKR NEDVIZHIMOST OOO, ul. Petrovka d. 17, str. 4, et 1 pom. VII kom 7, Moscow 107031, Russia; Organization Established Date 15 Apr 2014; Tax ID No. 7702836342 (Russia); Registration Number 1147746418291 (Russia) [RUSSIA-EO14024] (Linked To: VINER, Natan Adadievich).

Designated pursuant to section 1(a)(vii) of E.O. 14024 for being owned or controlled by, or having acted or purported to act for or on behalf of, directly or indirectly, Natan Adadievich Viner, a person whose property and interests in property are blocked pursuant to E.O. 14024.

7. GKR OOO, ul. Dmitrovka M. d. 18A, str. 3, floor 3 office 1, Moscow 127006, Russia; Organization Established Date 27 Jun 2014; Tax ID No. 7702840557 (Russia); Registration Number 1147746723288 (Russia) [RUSSIA-EO14024] (Linked To: VINER, Natan Adadievich).

Designated pursuant to section 1(a)(vii) of E.O. 14024 for being owned or controlled by, or having acted or purported to act for or on behalf of, directly or indirectly, Natan Adadievich Viner, a person whose property and interests in property are blocked pursuant to E.O. 14024.

8. GKR UK OOO, ul. Selskokhozyaistvennaya d. 26, str. 6, floor/pomeshch. 2/II, kom. 7, Moscow 129226, Russia; Organization Established Date 12 Oct 2021; Tax ID No. 9717106688 (Russia); Registration Number 1217700485122 (Russia) [RUSSIA-EO14024] (Linked To: VINER, Natan Adadievich).

Designated pursuant to section 1(a)(i) of E.O. 14024 for operating or having operated in the management consulting sector of the Russian Federation economy.

9. GRUPPA RODINA OOO (a.k.a. RODINA GROUP), ul. Dmitrovka M. d. 18A, str. 3, et 3 pom. X office 3, Moscow 127006, Russia; Organization Established Date 24 Jan 2020; Tax ID No. 7707437415 (Russia); Registration Number 1207700022364 (Russia) [RUSSIA-EO14024] (Linked To: VINER, Natan Adadievich).

Designated pursuant to section 1(a)(vii) of E.O. 14024 for being owned or controlled by, or having acted or purported to act for or on behalf of, directly or indirectly, Natan Adadievich Viner, a person whose property and interests in property are blocked pursuant to E.O. 14024.

10. INVESTITSIONNAYA GRUPPA PARTNERY OOO, ul. Selskokhozyaistvennaya d. 26, str. 6, pomeshch. II, kab. 20, Moscow 129226, Russia; Organization Established Date 06 Apr 2017; Tax ID No. 7703425497 (Russia); Registration Number 1177746351276 (Russia) [RUSSIA-EO14024] (Linked To: VINER, Natan Adadievich).

Designated pursuant to section 1(a)(vii) of E.O. 14024 for being owned or controlled by, or having acted or purported to act for or on behalf of, directly or indirectly, Natan Adadievich Viner, a person whose property and interests in property are blocked pursuant to E.O. 14024.

11. RODINA STROI GRUPP OOO, ul. Dmitrovka M. d. 18A, str. 3, floor 3/office 5, Moscow 127006, Russia; Organization Established Date 18 Jul 2014; Tax ID No. 7702841712 (Russia); Registration Number 1147746813202 (Russia) [RUSSIA-EO14024] (Linked To: VINER, Natan Adadievich).

Designated pursuant to section 1(a)(vii) of E.O. 14024 for being owned or controlled by, or having acted or purported to act for or on behalf of, directly or indirectly, Natan Adadievich Viner, a person whose property and interests in property are blocked pursuant to E.O. 14024.

12. PLATIFINO LIMITED, 4th Floor, Queen Victoria House, 41-43 Victoria Street, Douglas IM1 2LF, Man, Isle of; Organization Established Date 25 Apr 2014; Registration Number 011037V (Man, Isle of) [RUSSIA-EO14024] (Linked To: STRESHINSKIY, Vladimir Yakovlevich).

Designated pursuant to section 1(a)(vii) of E.O. 14024 for being owned or controlled by, or having acted or purported to act for or on behalf of, directly or indirectly, Vladimir Yakovlevich Streshinskiy, a person whose property and interests in property are blocked pursuant to E.O. 14024.

13. INTERNATIONAL INVESTMENT BANK (a.k.a. MEZHDUNARODNY INVESTITSIONNY BANK; a.k.a. “IIB”), Vaci ut, 188, Budapest H-1138, Hungary; Fo utca 1, Budapest H-1011, Hungary; 7 Mashi Poryvaevoy Street, Moscow 107078, Russia; SWIFT/BIC IIBMHU22; website www.iib.int; Organization Established Date 10 Jul 1970; Target Type Financial Institution; Tax ID No. 30479900-1-51 (Hungary); alt. Tax ID No. 9909152110 (Russia); Legal Entity Number 2534000PHLD27VN98Y03 [RUSSIA-EO14024].

Designated pursuant to sections 1(a)(i) and 1(a)(vii) of E.O. 14024 for operating or having operated in the financial services sector of the Russian Federation economy and for being owned or controlled by, or having acted or purported to act for or on behalf of, directly or indirectly, the Government of the Russian Federation or any person whose property and interests in property are blocked pursuant to this order.

14. JOINT STOCK COMPANY IIB CAPITAL (a.k.a. AO MIB KAPITAL; a.k.a. CJSC IIB CAPITAL), ul. Mashi Poryvaevoi d. 11, str. B, floor 1, pomeshch. 15, Moscow 107078, Russia; Organization Established Date 25 Jul 2012; Tax ID No. 7708767021 (Russia); Registration Number 1127746575516 (Russia) [RUSSIA-EO14024] (Linked To: INTERNATIONAL INVESTMENT BANK).

Designated pursuant to section 1(a)(vii) of E.O. 14024 for being owned or controlled by, or having acted or purported to act for or on behalf of, directly or indirectly, International Investment Bank, a person whose property and interests in property are blocked pursuant to E.O. 14024.

15. DEXIAS INTERNATIONAL PRODUCTS AND TRADE LIMITED COMPANY (Latin: DEXIAS ENDÜSTRIYEL ÜRÜNLER VE TICARET LIMITED ŞIRKETI) (a.k.a. DEXIAS IPTLC), Mecidiyekoy Street, Bloc No: 12/221, Kushtepe Neighborhood, Sisli, Istanbul, Turkey; Organization Established Date 20 Jul 2022; Tax ID No. 2931074985 (Turkey); Registration Number 394044-5 (Turkey) [RUSSIA-EO14024] (Linked To: RADIOAVTOMATIKA LLC).

Designated pursuant to section 1(a)(vi)(B) of E.O. 14024 for having materially assisted, sponsored, or provided financial, material, or technological support for, or goods or services to or in support of, Radioavtomatika LLC, a person whose property and interests in property are blocked pursuant to E.O. 14024.

18. ALMENOR HOLDINGS LIMITED, Louloupis Court, Floor No: 7, Christodoylou Chatzipaylou 205, Limassol 3036, Cyprus; Organization Established Date 30 Jan 2018; Registration Number C379400 (Cyprus) [RUSSIA-EO14024] (Linked To: THE SISTER TRUST).

Designated pursuant to section 1(a)(vii) of E.O. 14024 for being owned or controlled by, or having acted or purported to act for or on behalf of, directly or indirectly, The Sister Trust, a person whose property and interests in property are blocked pursuant to E.O. 14024.

19. HIGHTRAIL LTD, Louloupis Court, 6th Floor, Christodoulou Chatzipaylou 205, Limassol 3036, Cyprus; Organization Established Date 24 Nov 2021; Registration Number C428257 (Cyprus) [RUSSIA-EO14024] (Linked To: SERGHIDES, Demetrios).

Designated pursuant to section 1(a)(vii) of E.O. 14024 for being owned or controlled by, or having acted or purported to act for or on behalf of, directly or indirectly, Demetrios Serghides, a person whose property and interests in property are blocked pursuant to E.O. 14024.

20. KLARET AVIATION LIMITED, Louloupis Court, Floor No: 7, Christodoylou Chatzipaylou 205, Limassol 3036, Cyprus; 720 West Bay Road, P.O. Box 601, Buckingham Square, Grand Cayman KY1-9006, Cayman Islands; Organization Established Date 01 Feb 2018; Registration Number O3170 (Cyprus) [RUSSIA-EO14024] (Linked To: THE SISTER TRUST).

Designated pursuant to section 1(a)(vii) of E.O. 14024 for being owned or controlled by, or having acted or purported to act for or on behalf of, directly or indirectly, The Sister Trust, a person whose property and interests in property are blocked pursuant to E.O. 14024.

21. NAVIS MARINE LIMITED, 720 West Bay Road, P.O. Box 601, Buckingham Square, Grand Cayman KY1-9006, Cayman Islands; Organization Established Date 02 Feb 2018; Registration Number 332478 (Cayman Islands) [RUSSIA-EO14024] (Linked To: THE SISTER TRUST).

Designated pursuant to section 1(a)(vii) of E.O. 14024 for being owned or controlled by, or having acted or purported to act for or on behalf of, directly or indirectly, The Sister Trust, a person whose property and interests in property are blocked pursuant to E.O. 14024.

22. OMNIA ANTIBES, Centre d Affaires Le Forum, 33 Boulevard du General Leclerc, Beausoleil 06240, France; Organization Established Date 25 Jun 2018; Tax ID No. 840939516 (France); Identification Number 840939516-00034 (France) [RUSSIA-EO14024] (Linked To: SERGHIDES, Demetrios).

Designated pursuant to section 1(a)(vii) of E.O. 14024 for being owned or controlled by, or having acted or purported to act for or on behalf of, directly or indirectly, Demetrios Serghides, a person whose property and interests in property are blocked pursuant to E.O. 14024.

23. OMNIA SERVICES CYPRUS LTD, Louloupis Court, Floor No: 6, Christodoylou Chatzipaylou 205, Limassol 3036, Cyprus; Organization Established Date 16 Jul 2018; Registration Number C386392 (Cyprus) [RUSSIA-EO14024] (Linked To: SERGHIDES, Demetrios).

Designated pursuant to section 1(a)(vii) of E.O. 14024 for being owned or controlled by, or having acted or purported to act for or on behalf of, directly or indirectly, Demetrios Serghides, a person whose property and interests in property are blocked pursuant to E.O. 14024.

24. POMEROL CAPITAL SA, Place des Eaux-Vives 6, Geneva 1207, Switzerland; Organization Established Date 29 Mar 2021; Tax ID No. 143003237 (Switzerland); Identification Number DBF5PV.00764.SF.756 (Switzerland); Registration Number CH-660.1.066.021-8 (Switzerland) [RUSSIA-EO14024] (Linked To: THE SISTER TRUST).

Designated pursuant to section 1(a)(vii) of E.O. 14024 for being owned or controlled by, or having acted or purported to act for or on behalf of, directly or indirectly, The Sister Trust, a person whose property and interests in property are blocked pursuant to E.O. 14024.

25. THE SISTER TRUST, Switzerland; Bermuda; Organization Established Date 26 Jul 2016; Identification Number DBF5PV.00765.SF.756 (Switzerland) [RUSSIA-EO14024] (Linked To: SERGHIDES, Demetrios).

Designated pursuant to section 1(a)(vii) of E.O. 14024 for being owned or controlled by, or having acted or purported to act for or on behalf of, directly or indirectly, Demetrios Serghides, a person whose property and interests in property are blocked pursuant to E.O. 14024.

BILLING CODE 4810-AL-P

29. SEQUOIA TREUHAND TRUST REG, Poststrasse 2, Ruggell, LI-06 9491, Liechtenstein; website https://sequoia.li; Organization Established Date 2007; Legal Entity Number 5299007BJ0JWBN3WVQ35; Registration Number FL-0002.222.366-2 (Liechtenstein) [RUSSIA-EO14024] (Linked To: TIMCHENKO, Gennady Nikolayevich).

Designated pursuant to section 1(a)(vi)(B) of E.O. 14024 for having materially assisted, sponsored, or provided financial, material, or technological support for, or goods or services to or in support of, Gennadiy Nikolayevich Timchenko, a person whose property and interests in property are blocked pursuant to E.O. 14024.

B. On April 14, 2023, OFAC updated the entry on the SDN List for the following person, whose property and interests in property subject to U.S. jurisdiction continues to be blocked under the relevant sanctions authority listed below.

1. SEQUOIA TREUHAND TRUST REG, Postrasse 2, Ruggell, LI-06 9491, Liechtenstein; website https://sequoia.li; Organization Established Date 2007; Legal Entity Number 5299007BJ0JWBN3WVQ35; Registration Number FL-0002.222.366-2 (Liechtenstein) [RUSSIA-EO14024] (Linked To: TIMCHENKO, Gennady Nikolayevich).

-to-

SEQUOIA TREUHAND TRUST REG, Poststrasse 2, Ruggell, LI-06 9491, Liechtenstein; website https://sequoia.li; Organization Established Date 2007; Legal Entity Number 5299007BJ0JWBN3WVQ35; Registration Number FL-0002.222.366-2 (Liechtenstein) [RUSSIA-EO14024] (Linked To: TIMCHENKO, Gennady Nikolayevich).

Designated pursuant to section 1(a)(vi)(B) of E.O. 14024 for having materially assisted, sponsored, or provided financial, material, or technological support for, or goods or services to or in support of, Gennadiy Nikolayevich Timchenko, a person whose property and interests in property are blocked pursuant to E.O. 14024.

Dated: April 14, 2023.
Bradley T. Smith,
Deputy Director, Office of Foreign Assets Control, U.S. Department of the Treasury.

[FR Doc. 2023-10698 Filed 5-18-23; 8:45 am]

BILLING CODE 4810-AL-C